DEPARTMENT OF COMMERCE

Bureau of Economic Analysis

The Nomination of Individuals to the Federal Economic Statistics Advisory Committee

AGENCY: Bureau of Economic Analysis, Census Bureau, Department of Commerce.

ACTION: Notice of request for nominations.

SUMMARY: The Under Secretary for Economic Affairs requests the nomination of individuals to the Federal Economic Statistics Advisory Committee (FESAC or the Committee). The Under Secretary for Economic Affairs, in coordination with the Directors of the Bureau of Economic Analysis (BEA) and the Census Bureau, as well as the Commissioner of the Department of Labor's Bureau of Labor Statistics (BLS), will consider nominations received in response to this notice, as well as from other sources.

DATES: Nominations for FESAC will be accepted on an ongoing basis and will be considered as and when vacancies arise.

ADDRESSES: Please submit nominations by email to Gianna.marrone@bea.gov (subject line “FESAC Nomination”).

FOR FURTHER INFORMATION CONTACT: Gianna Marrone, Committee Management Official, Department of Commerce, Bureau of Economic Analysis, telephone 301-278-9282, email: gianna.marrone@bea.gov.

SUPPLEMENTARY INFORMATION: FESAC was established in accordance with the Federal Advisory Committee Act (Title 5, U.S.C., App. 2). The following sections provide information about the Committee, membership to the Committee, and the Committee's nomination process.

Objectives and Scope of FESAC Activities

The Committee advises the Directors of BEA and the Census Bureau, as well as the Commissioner of BLS, on statistical methodology and other technical matters related to the design, collection, tabulation, and analysis of Federal economic statistics.

Description of the FESAC Member Duties

The Committee functions solely as an advisory committee to the senior officials of BEA, the Census Bureau, and BLS (the agencies). Important aspects of the Committee's responsibilities include, but are not limited to:

a. Recommending research to address important technical problems arising in the field of Federal economic statistics;

b. Identifying areas in which better coordination of the agencies' activities would be beneficial;

c. Exploring ways to enhance the agencies' economic indicators to improve their timeliness, accuracy, and specificity to meet changing demands and future data needs;

d. Improving the means, methods, and techniques to obtain economic information needed to produce current and future economic indicators; and

e. Coordinating, in its identification of agenda items, with other existing academic advisory committees chartered to provide agency-specific advice, for the purpose of avoiding duplication of effort.

The Committee meets once or twice a year, budget permitting. Additional meetings may be held as deemed necessary by the Under Secretary for Economic Affairs or the Designated Federal Official. All Committee meetings are open to the public in accordance with the Federal Advisory Committee Act.

FESAC Membership

The Committee will comprise approximately sixteen members who serve at the pleasure of the Secretary of Commerce. Members shall be appointed by the Under Secretary for Economic Affairs in consultation with the agencies. Committee members shall be professionals in appropriate disciplines, including economists, statisticians, survey methodologists, computer scientists, data scientists, and behavioral scientists who are experts in their fields and are recognized for their scientific, professional, and operational achievements and objectivity. Membership will represent data users with expertise from the public sector, academia, and the private sector. Members will be chosen to achieve a balanced membership that will meet the needs of the agencies.

Members shall serve as Special Government Employees (SGEs) and shall be subject to the applicable ethics rules.

A FESAC member term is three years. Members may serve more than one term as described in the FESAC Charter, available at: https://apps.bea.gov/fesac/.

Compensation for Members

Members of the Committee serve without compensation but may be reimbursed for Committee-related travel and lodging expenses.

Solicitation of Nominations

The Committee is currently filling one or more positions on FESAC.

The Under Secretary of Economic Affairs, in consultation with the agencies, will consider nominations of all qualified individuals to ensure that the Committee includes the areas of experience noted above. Individuals may nominate themselves or other individuals. Professional associations and organizations also may nominate one or more qualified persons for Committee membership. Nominations shall state that the nominee is willing to serve as a Committee member and carry out the affiliated duties. A nomination package should include the following information for each nominee:

1. A letter of nomination stating the name, affiliation, and contact information for the nominee, the basis for the nomination (i.e., what specific attributes recommend the nominee for service in this capacity), and the nominee's field(s) of expertise;

2. A biographical sketch of the nominee;

3. A copy of the nominee's curriculum vitae; and

4. The name, return address, email address, and daytime telephone number at which the nominator can be contacted.

The Committee aims to have a balanced representation among its members, considering such factors as geography, age, sex, race, ethnicity, technical expertise, community involvement, and knowledge of programs and/or activities related to FESAC. Individuals will be selected based on their expertise in or representation of specific areas as needed by FESAC.

All nomination information should be provided in a single, complete package. Interested applicants should send their nomination packages to Gianna Marrone, Committee Management Official, at Gianna.Marrone@bea.gov (subject line “FESAC Nomination”).

Authority: Federal Advisory Committee Act (FACA), as amended, 5 U.S.C., App.

Dated: July 25, 2023.
Gianna Marrone,
Bureau of Economic Analysis, Alternate Designated Federal Official, Federal Economic Statistics Advisory Committee.

[FR Doc. 2023-16043 Filed 7-27-23; 8:45 am]

BILLING CODE 3510-06-P